DEPARTMENT OF HOMELAND SECURITY

Federal Emergency Management Agency

[Docket ID FEMA-2008-0009]

National Disaster Housing Strategy

AGENCY: Federal Emergency Management Agency, DHS.

ACTION: Notice of availability; request for comments.

SUMMARY: The Federal Emergency Management Agency (FEMA) is accepting comments on the National Disaster Housing Strategy (NDHS). The NDHS is intended to serve two purposes. It describes how we as a Nation currently provide housing to those affected by disasters, and charts the new direction that our disaster housing efforts must take if we are to better meet the emergent needs of disaster victims and communities.

DATES: Comments must be received by September 22, 2008.

ADDRESSES: The NDHS is available online at http://www.regulations.gov. You may also view a hard copy of the NDHS at the Office of Chief Counsel, Federal Emergency Management Agency, Room 835, 500 C Street, SW., Washington, DC 20472. You may submit comments on the NDHS, identified by Docket ID FEMA-2008-0009, by one of the following methods:

Federal eRulemaking Portal: http://www.regulations.gov. Follow the instructions for submitting comments.

E-mail: FEMA-POLICY@dhs.gov. Include Docket ID FEMA-2008-0009 in the subject line of the message.

Fax: 866-466-5370.

Mail/Hand Delivery/Courier: Regulation & Policy Team, Office of Chief Counsel, Federal Emergency Management Agency, Room 835, 500 C Street, SW., Washington, DC 20472.

Instructions: All Submissions received must include the agency name and Docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov. Due to the large number of comments expected, FEMA urges commenters to use the form provided in the docket when submitting their comments. To comment using the form provided, please open the form in Word, enter your comments to the form and save it as a new file on your computer. When submitting your comment on http://www.regulations.gov, below the box provided for written comments is a link for “Attachments”. Browse for the file saved to your computer then upload the form.

Docket: For access to the docket to read background documents or comments received, go to the Federal eRulemaking Portal at http://www.regulations.gov. Submitted comments may also be inspected at FEMA, Office of Chief Counsel, Room 835, 500 C Street, SW., Washington, DC 20472.

FOR FURTHER INFORMATION CONTACT: Laura McClure, Federal Emergency Management Agency, 500 C Street SW., Washington, DC 20472, 202-646-4389.

SUPPLEMENTARY INFORMATION: The National Disaster Housing Strategy (NDHS), serves as a guide to how the Nation currently provides housing after a disaster, and sets a course for improving the methods in which we can provide housing to meet the emergent needs of disaster victims and communities. As requested by Congress in Section 683 of the Post-Katrina Emergency Management Reform Act of 2006, Public Law 109-295, the NDHS is intended to begin a long-term effort to build on current strengths and encourage all involved to work collaboratively and seek innovative housing solutions. It intends to establish a strong foundation based on clear roles and responsibilities, key principles to guide national efforts, a joint planning process to build baseline capabilities, and additional resources to better prepare for an impending or emergent event.

The NDHS promotes a national housing effort that engages all levels of government and the private sector to collectively meet the urgent housing needs of disaster victims and to enable individuals, households and communities to rebuild and restore their way of life following a disaster. A key concept introduced in the NDHS is the National Disaster Housing Task Force to bring together experts and policymakers whose efforts would be dedicated exclusively to the disaster housing issue. The NDHS draws on best practices and lessons learned over the years to identify actions that can be taken to improve disaster housing assistance. This effort began with realigning roles and responsibilities, renewing our focus on planning, building baseline capabilities, and providing a broader range of flexible disaster housing options. The NDHS outlines a vision, supported by specific goals, that will point the Nation in a new direction to meet the disaster housing needs of individuals and communities going forward. FEMA solicits comments on the draft NDHS which is available in Docket ID FEMA-2008-0009 at http://www.regulations.gov.

Although it is not currently open for comment, FEMA has also provided a copy of the 2008 Disaster Housing Plan (Housing Plan) in the docket to aid the public in its review of the NDHS. The Housing Plan describes FEMA's approach to working with Federal partners, States, territories, local communities, and individual disaster victims to meet disaster housing needs during the 2008 hurricane season. Key concepts in the Housing Plan are further defined in the NDHS.

Authority: 42 U.S.C. 5121-5207; 6 U.S.C. 772.

Dated: July 18, 2008.
Harvey E. Johnson, Jr.,
Deputy Administrator, Federal Emergency Management Agency.

[FR Doc. E8-17004 Filed 7-23-08; 8:45 am]

BILLING CODE 9110-10-P